DEPARTMENT OF TRANSPORTATION

Federal Aviation Administration

14 CFR Part 39

[Docket No. 2000-NE-36-AD; Amendment 39-12779; AD 2002-12-07]

RIN 2120-AA64

Airworthiness Directives; Textron Lycoming Reciprocating Engines

AGENCY: Federal Aviation Administration, DOT.

ACTION: Final rule; request for comments.

SUMMARY: This amendment supersedes emergency airworthiness directive (AD) 2000-18-53 that was sent previously to all known U.S. owners and operators of certain Textron Lycoming reciprocating engines. That action required before further flight after receipt of that emergency AD, replacement of the oil filter converter plate gasket or the converter plate kit. That action also required, within 10 hours time-in-service (TIS) or within 3 days after the effective date of that emergency AD, inspection of the oil filter base for signs of oil leakage and evidence of gasket extrusion. That action also required replacement of the converter plate gasket at intervals not to exceed 50 hours TIS since the last replacement of the gasket. This amendment requires the same replacements and inspection, and introduces the installation of an improved design gasket or converter plate kit as terminating action for the repetitive gasket replacements. The actions specified in this AD are intended to prevent complete loss of engine oil and subsequent seizing of the engine and possibility of fire, caused by oil leakage between the converter plate and accessory housing.

DATES: Effective July 3, 2002. The incorporation by reference of certain publications listed in the rule is approved by the Director of the Federal Register as of July 3, 2002.

Comments for inclusion in the Rules Docket must be received on or before August 19, 2002.

ADDRESSES: Submit comments in triplicate to the Federal Aviation Administration (FAA), New England Region, Office of the Regional Counsel, Attention: Rules Docket No. 2000-NE-36-AD, 12 New England Executive Park, Burlington, MA 01803-5299. Comments may be inspected at this location, by appointment, between 8:00 a.m. and 4:30 p.m., Monday through Friday, except Federal holidays. Comments may also be sent via the Internet using the following address: 9-ane-adcomment@faa.gov. Comments sent via the Internet must contain the docket number in the subject line. The service information referenced in this AD may be obtained from Textron Lycoming, 652 Oliver Street, Williamsport, PA 17701, U.S.A. telephone (570) 323-6181. Information regarding this action may be examined, by appointment, at the FAA, New England Region, Office of the Regional Counsel, 12 New England Executive Park, Burlington, MA; or at the Office of the Federal Register, 800 North Capitol Street, NW, suite 700, Washington, DC.

FOR FURTHER INFORMATION CONTACT: Rocco Viselli, Aerospace Engineer, New York Aircraft Certification Office, FAA, Engine and Propeller Directorate, 10 Fifth Street, 3rd Floor, Valley Stream, NY 11581-1200; telephone (516) 256-7531, fax (516) 568-2716.

SUPPLEMENTARY INFORMATION: On September 5, 2000, the Federal Aviation Administration (FAA) issued Emergency airworthiness directive (AD) 2000-18-53, applicable to certain Textron Lycoming reciprocating engines. That AD requires the following:

• For engines with more than 50 hours time-since-new (TSN), time-since-overhaul (TSO), or time-since-last replacement of the oil filter plate gasket, replacement of the oil filter converter plate gasket part number (P/N) LW-13388, or the converter plate kit P/N LW-13904.

• For engines with fewer than 50 hours TSN, TSO, or time-since-last replacement of the oil filter converter plate gasket P/N LW-13388, or the converter plate kit P/N LW-13904, inspection of the oil filter base for signs of oil leakage and evidence of gasket extrusion.

• Replacement of converter plate gasket P/N LW-13388 at intervals not to exceed 50 hours TIS since the last replacement of the gasket. The actions are required to be done in accordance with Textron Lycoming Mandatory Service Bulletin (MSB) 543A, dated August 30, 2000 and Textron Lycoming Service Instruction No. 1453, dated May 9, 1991.

That AD was prompted by reports of certain oil filter converter plate gaskets, P/N LW-13388, extruding from the seat of the oil filter converter plate. The protruding or swelling of the gasket allows oil to leak from between the plate and accessory housing. The actions specified in that AD are intended to prevent complete loss of engine oil and subsequent seizing of the engine and possible fire, caused by oil leakage between the converter plate and accessory housing.

Since emergency AD 2000-18-53 was issued, Textron Lycoming has issued a service bulletin supplement that relieves the requirements of MSB 543A and that eliminates the need for gasket replacement every 50 ours TSN, TSO, or time since the last replacement.

Manufacturer's Service Information

The FAA has reviewed and approved the technical contents of the following Textron Lycoming Service Information:

• MSB 543A, dated August 30, 2000, and SI No. 1453, dated May 9, 1991, that provide instructions for replacing the oil filter converter plate gasket P/N LW-13388, or the converter plate kit P/N LW-13904.

• Supplement No. 1 to MSB 543A, dated October 4, 2000, that describes procedures for replacing the oil filter converter plate gasket P/N LW-13388, or the converter plate kit P/N LW-13904, with a new improved design.

FAA's Determination of an Unsafe Condition and Required Actions

Since the unsafe condition described is likely to exist or develop on other engines of the same type design, the FAA issued emergency AD 2000-18-53 to prevent complete loss of engine oil and subsequent seizing of the engine and possible fire, caused by oil leakage between the converter plate and accessory housing. This AD requires for engines listed that were shipped from the factory between April 1, 1999 and October 4, 2000, and any engine listed that had the oil filter converter plate gasket replaced with gasket P/N LW-13388, and, any engine listed that had the oil filter converter plate replaced with converter plate kit P/N LW-13904, the following:

• Before further flight after the effective date of this AD, for engines with more than 50 hours TSN or TSO, or time-since-last replacement of the oil filter plate gasket P/N LW-13388, replacement of the oil filter converter plate gasket or the converter plate kit P/N LW-13904.

• Within 10 hours TIS or within 3 days after the effective date of this AD, whichever occurs earlier, for engines with fewer than 50 hours TSN, TSO, or time-since-last replacement of the oil filter converter plate gasket P/N LW-13388, or the converter plate kit P/N LW-13904, inspection of the oil filter base for signs of oil leakage and evidence of gasket extrusion.

• Replacement of the converter plate gasket P/N LW-13388 at intervals not to exceed 50 hours TIS since the last replacement of the gasket.

• As terminating action to the repetitive gasket replacement specified in this AD, replacement of the oil filter converter plate gasket or the oil filter converter plate with a converter plate kit, in accordance with Part II and Part III of Textron Lycoming Supplement 1 to MSB 543A, dated October 4, 2000.

The actions must be done in accordance with the service information described previously.

Immediate Adoption of This AD

Since it was found that immediate corrective action was required, notice and opportunity for prior public comment thereon were impracticable and contrary to the public interest, and good cause existed to make the AD effective immediately on September 5, 2000 to all known U.S. owners and operators of the affected Textron Lycoming reciprocating engines. These conditions still exist, and the AD is hereby published in the Federal Register as an amendment to Section 39.13 of part 39 of the Federal Aviation Regulations (14 CFR part 39) to make it effective to all persons.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this action must submit a self-addressed, stamped postcard on which the following statement is made: “Comments to Docket Number 2000-NE-36-AD.” The postcard will be date stamped and returned to the commenter.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive, Amendment 39-12779, to read as follows:

2002-12-07 Textron Lycoming: Amendment 39-12779. Docket No. 2000-NE-36-AD. Supersedes AD 2000-18-53.

Applicability: This airworthiness directive (AD) is applicable to the reciprocating engine models in the following Table, that were shipped from the factory between April 1, 1999 and October 4, 2000, or rebuilt, or overhauled, or had the oil filter converter plate kit part number (P/N) LW-13904 or gasket P/N LW13388 replaced:

Engine Applicability Table
O-320 | -H1AD, -H1BD, -H2AD, -H2BD, -H3AD, -H3BD
(L)O-360 | -A1AD, -A1F6D, -A1G6D, -A1LD, -A3AD, -A4AD, -A5AD, -E1A6D
IO-360 | -A1B6D, -A1D6D, -A3B6D, -A3D6D, -C1E6D, -J1AD, -J1A6D
(L)TO-360 | -A1A6D, -C1A6D, -E1A6D, -F1A6D
TIO-360 | -C1A6D
(L)HIO-360 | -E1AD, -E1BD, -F1AD
O-540 | -H1A5D, -H1B5D, -H2A5D, -H2B5D, -J1A5D, -J1B5D, -J1C5D, -J1D5D, -J2A5D, -J2B5D, -J2C5D, -J2D5D, -J3A5D, -J3C5D, -L3C5D
IO-540 | -C4D5D, -K1A5D, -K1B5D, -K1E5D, -K1F5D, -K1G5D, -K1J5D, -L1A5D, -L1B5D, -M1A5D, -M1B5D, -M2A5D, -T4A5D, -T4B5D, -T4C5D, -U1A5D, -U1B5D, -V4A5D, -W1A5D, -W3A5D
(L)TIO-540 | -K1AD, -S1AD, -AA1AD, -AB1AD, -AB1BD, -F2BD, -J2BD, -N2BD, -R2AD, -T2AD, -V2AD
AEIO-540 | -L1B5D
TIO-541 | -E Series
TIGO-541 | -D1A, -D1B, -E1A
IO-720 | -A1BD, -B1BD, -C1BD, -D1BD, -D1CD

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance

Compliance with this AD is required as indicated, unless already done.

To prevent complete loss of engine oil and subsequent seizing of the engine and possibility of fire, caused by oil leakage between the converter plate and accessory housing, do the following:

(a) For engines with more than 50 hours time-since-new (TSN), time-since-overhaul (TSO), or time since the last replacement of the oil filter converter plate gasket, P/N LW-13388, or the converter plate kit, P/N LW-13904, replace the converter plate gasket or converter plate kit in accordance with paragraphs 1 and 2 of Textron Lycoming Mandatory Service Bulletin (MSB) 543A, dated August 30, 2000, and Textron Lycoming Service Instruction (SI) No. 1453, dated May 9, 1991, or Part II of Supplement No. 1 to MSB 543A, dated October 4, 2000, before further flight.

(b) For engines with fewer than 50 hours TSN, TSO, or time since the last replacement of the oil filter converter plate gasket, P/N LW-13388, or the oil converter plate, P/N LW-13904, inspect the gasket within 10 hours time-in-service (TIS) or within 3 days after the effective date of this AD, whichever occurs earlier, for the following:

(1) Inspect the oil filter base for both:

(i) Signs of oil leakage between the oil filter base and the accessory housing; and

(ii) Any evidence of the gasket extruding beyond the perimeter of the base.

(2) If there is any oil leakage, or if the seal is damaged, extruded, displaced, or deteriorated, replace the converter plate gasket or converter plate kit in accordance with paragraphs 1 and 2 of Textron Lycoming MSB 543A, dated August 30, 2000, and Textron Lycoming SI No. 1453, dated May 9, 1991, or Part II of Supplement No. 1 to MSB 543A, dated October 4, 2000, before further flight.

(c) Thereafter, replace the converter plate gasket, P/N LW-13388, or the oil converter plate kit, P/N LW-13904, at intervals not to exceed 50 hours TIS since the last replacement.

(d) Before October 1, 2003, replace the oil filter converter plate gasket or oil filter converter plate kit, in accordance with Part II or Part III respectively, of Supplement No. 1 to MSB 543A, dated October 4, 2000.

Terminating Action

(e) Replacement of oil filter converter plate gasket, or oil filter converter plate in accordance with Part II or Part III of Textron Lycoming Supplement 1 to MSB 543A, dated October 4, 2000, constitutes terminating action to the repetitive gasket replacement specified in paragraph (c) of this AD.

Alternative Methods of Compliance

(f) An alternative method of compliance or adjustment of the compliance time that provides an acceptable level of safety may be used if approved by the Manager, New York Aircraft Certification Office. Operators must submit their requests through an appropriate FAA Maintenance Inspector, who may add comments and then send it to the Manager, New York Aircraft Certification Office.

Note 2: Information concerning the existence of approved alternative methods of compliance with this airworthiness directive, if any, may be obtained from the New York Aircraft Certification Office.

Special Flight Permits

(g) Special flight permits may be issued in accordance with §§ 21.197 and 21.199 of the Federal Aviation Regulations (14 CFR 21.197 and 21.199) to operate the airplane to a location where the requirements of this AD can be done.

Documents That Have Been Incorporated by Reference

(h) The inspections and replacements must be done in accordance with the following Textron Lycoming mandatory service bulletin (MSB), MSB supplement, and Service Instruction (SI):

Document No. | Pages | Revision | Date
MSB No. 543A, Total pages: 2 | All | Revision A | August 30, 2000.
MSB No. 543A, Supplement No. 1, Total pages: 3 | All | Original | October 4, 2000.
SI No. 1453, Total pages: 1 | All | Original | May 9, 1991.

The incorporations by reference were approved by the Director of the Federal Register in accordance with 5 U.S.C. 552(a) and 1 CFR part 51. Copies may be obtained from Textron Lycoming, 652 Oliver Street, Williamsport, PA 17701, U.S.A. telephone: 570-323-6181. This information may be examined, by appointment, at the FAA, New England Region, Office of the Regional Counsel, 12 New England Executive Park, Burlington, MA; or at the Office of the Federal Register, 800 North Capitol Street NW, suite 700, Washington, DC.

Effective Date

(i) This amendment becomes effective July 3, 2002.

Issued in Burlington, Massachusetts, on June 4, 2002.
Francis A. Favara,
Acting Manager, Engine and Propeller Directorate, Aircraft Certification Service.

[FR Doc. 02-14696 Filed 6-17-02; 8:45 am]

BILLING CODE 4910-13-P